ENVIRONMENTAL PROTECTION AGENCY

[ER-FRL-6353-8]

Environmental Impact Statements; Notice of Availability

Responsible Agency: Office of Federal Activities, General Information (202) 564-7167 or www.epa.gov/oeca/ofa.

Weekly receipt of Environmental Impact Statements filed April 24, 2000 through April 28, 2000 pursuant to 40 CFR 1506.9.

EIS No. 000129, Final EIS, AFS, CO, Uncompahgre National Forest Travel Plans Revision, Implementation, Grand Mesa, Uncompahgre and Gunnison National Forests, Garrison, Hinsdale Mesa, Montrose, Ouray and San Juan Counties, CO, Due: June 5, 2000, Contact: Jeff Burch (970) 874-6600.

EIS No. 000130, Draft EIS, FHW, MO, New Mississippi River Crossing, Relocated I-70 and I-64 Connector, Funding, COE Section 404 and 10 Permits and NPDES Permit, St. Louis County, MO, Due: June 20, 2000, Contact: Ronald C. Marshall (217) 492-4600.

EIS No. 000131, Draft EIS, AFS, ID, Box Canyon Timber Sale, Vegetative Management, Implementation, Palisades Ranger District, Caribou-Targhee National Forest, Bonneville County, ID, Due: June 19, 2000, Contact: Jerry B. Reese (208) 624-3151.

EIS No. 000132, Draft EIS, AFS, CA, NV, Sierra Nevada Forest Plan Amendment Project, Implementation, several counties, CA and NV, Due: August 11, 2000, Contact: John Bradford (916) 498-5075.

EIS No. 000133, Draft Supplement, FTA, NY, Buffalo Inner Harbor Development Project, Waterfront Redevelopment, Funding and COE Section 10 and 404 Permit Issuance, New Information in Response to a Court Order concerning Historic Preservation, Erie County, NY, Due: May 31, 2000, Contact: Anthony G. Carr (212) 668-2170. Under Federal Court Decision and Order No. 99-CV-745S a SDEIS was to be prepared to consider archaeological investigations conducted after the FEIS. The Federal court order establishes a public review period for the DSEIS beginning May 10, 2000 and ending May 31, 2000. Written comments must be received by 5:00 P.M. on May 31, 2000 to be considered in the FSEIS. Comments are to be sent to Ruta Dzenis AICP, Project Director, Empire State Development Corporation, 420 Main Street, Suite 717, Buffalo, NY 14202. A public hearing will be held on May 24, 2000 from 7:00-9:00 P.M. at the Erie Community College, City Campus Auditorium, 121 Ellicott Street, Buffalo, NY 14203.

Dated: May 2, 2000.
Joseph C. Montgomery,
Director, NEPA Compliance Division, Office of Federal Activities.

[FR Doc. 00-11309 Filed 5-4-00; 8:45 am]

BILLING CODE 6560-50-U